DEPARTMENT OF THE INTERIOR

National Park Service

[NPS-SERO-CONG-13989; PPMPSAS1Y.YP0000]

Notice of Designation of Potential Wilderness as Wilderness, Congaree National Park, South Carolina

AGENCY: National Park Service, Interior.

ACTION: Notice of Designation.

SUMMARY: The Congaree Swamp National Monument Expansion and Wilderness Act of 1988 (Pub. L. 100-524, October 24, 1988) designated approximately 15,010 acres of Congaree Swamp National Monument, now Congaree National Park, as wilderness, and approximately 6,840 acres as potential wilderness additions. Section 2(b) of Public Law 100-524 authorizes the Secretary of the Interior to convert any designated potential wilderness at Congaree National Park to designated wilderness upon publication in the Federal Register of a notice that any non-Federal interests in land have been acquired and all uses thereon prohibited by the Wilderness Act of 1964 (Pub. L. 88-577) have ceased.

Accordingly, this notice hereby converts approximately 6,690 acres of designated potential wilderness at Congaree National Park to designated wilderness. The converted acreage comprises all but about 60 acres of designated potential wilderness in the park that have been acquired to date by the United States. The approximately 90 acres of private land still remaining within the park's designated potential wilderness are not affected by this Notice. These private lands, if acquired by the United States, may be converted to designated wilderness at a later date. A map showing the lands hereby converted to designated wilderness is on file at the administrative office of Congaree National Park.

All interests in the lands converted to designated wilderness via this Notice have been acquired by the United States, and there are no current, or proposed, uses of the 6,690 acres that are incompatible with wilderness designation. These 6,690 acres shall be added to the 15,010 acres of designated wilderness within the Congaree National Park Wilderness and managed in accordance with the Wilderness Act of 1964.

Dated: December 20, 2013.
Jonathan B. Jarvis,
Director, National Park Service.

Editorial Note: This document was received by the Office of the Federal Register on May 23, 2014.

[FR Doc. 2014-12497 Filed 5-28-14; 8:45 am]

BILLING CODE 4310-JD-P